DEPARTMENT OF COMMERCE

Bureau of the Census

[Docket Number 000207031-0074-02]

RIN Number 0607-XX55

Manufacturers' Shipments, Inventories and Orders (M3) Supplement: Unfilled Orders Benchmark Survey

AGENCY: Bureau of the Census, Commerce.

ACTION: Notice of determination.

SUMMARY: Notice is hereby given that the Bureau of the Census (Census Bureau) will conduct a survey, the Unfilled Orders Benchmark survey, to supplement the monthly Manufacturers' Shipments, Inventories, and Orders survey for 1999. The Census Bureau has determined that it needs to collect data covering unfilled orders in manufacturing. The data received from this supplement will provide the information necessary to benchmark the monthly estimates of unfilled orders in manufacturing.

FOR FURTHER INFORMATION CONTACT: Lee Wentela, Chief, Manufacturers' Shipments, Inventories, and Orders Branch, Manufacturing and Construction Division, on (301) 457-4832.

SUPPLEMENTARY INFORMATION: The Census Bureau is authorized to conduct surveys necessary to furnish current data on subjects covered by the major censuses authorized by Title 13, United States Code, Sections 182, 224, and 225. The Unfilled Orders Benchmark survey will provide continuing and timely national statistical data for the period between the economic censuses. The next economic census will occur in 2002. Data collected in this survey will be within the general scope, type, and character of those inquiries covered in the economic census.

This survey is a supplement to the Manufacturers' Shipments, Inventories, and Orders survey and will request end-of-year unfilled orders and annual sales data for 1999. The unfilled orders series is an important indicator of economic activity and has significant application to the needs of the public and industry. These data are not available from nongovernmental or other governmental sources.

The survey will require a selected sample of manufacturing companies, classified in industries for which unfilled orders are normally maintained longer than one month, to report in the 1999 Unfilled Orders Benchmark survey. We will furnish report forms and instruction manuals to the firms covered by this survey and will require their submissions within 45 days after receipt. The resulting unfilled orders estimates will be used to revise the levels currently being published for the monthly survey and will improve the accuracy of the data. The current estimates are based on a small sample and are subject to error. The survey is especially critical because of the conversion to the new North American Industry Classification System.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 United States Code, Chapter 35, the OMB approved the 1999 Unfilled Orders Benchmark survey under OMB Control Number 0607-0868. We will furnish report forms to companies included in the survey, and additional copies are available on written request to the Director, U.S. Census Bureau, Washington, DC 20233-0101.

Based on the foregoing, I have directed that a survey be conducted for the purpose of collecting these data.

Dated: March 21, 2000.
Kenneth Prewitt,
Director, Bureau of the Census.

[FR Doc. 00-7443 Filed 3-24-00; 8:45 am]

BILLING CODE 3510-07-P